DEPARTMENT OF HEALTH AND HUMAN SERVICES

Centers for Disease Control and Prevention

[Program Announcement 02019]

Cooperative Agreement for the Surveillance, Research, and Prevention of Birth Defects; Notice of Availability of Funds

A. Purpose

The Centers for Disease Control and Prevention (CDC) announces the availability of fiscal year (FY) 2002 funds for a cooperative agreement program for the surveillance, research, and prevention of birth defects. The purpose of this program is to aid in the surveillance, research, and prevention of birth defects.

B. Eligible Applicants

Assistance will be provided only to the International Centre for Birth Defects (ICBD). No other applications are solicited.

Located in Rome, Italy, ICBD was established in 1989 as an organization devoted to the prevention of birth defects through surveillance, training, and epidemiologic research. ICBD accomplishes this by serving as the headquarters for the International Clearinghouse for Birth Defects Monitoring Programs. The Clearinghouse is a non-governmental organization comprised of 32 member programs representing 34 countries in Europe, the Americas, Japan, China, South Africa, and Australia. The Clearinghouse's mission is to prevent birth defects through the exchange of information, enabling collaborative research, and consultation and assistance. Specifically, the Clearinghouse:

1. Responds to possible or suspected clusters of congenital malformations with information, monitoring systems, and personnel so that member countries are alerted and preventive action may be taken. This is the primary and most enduring goal of the Clearinghouse;

2. Enables collaborative epidemiological research based on birth defect surveillance data obtained from the member programs. Joint studies with the member programs have attempted to provide an understanding of endemic occurrence as well as temporal and/or geographical clusters of malformations; and

3. Provides expert consultation and assistance.

Note: Title 2 of the United States Code, section 1611 states that an organization described in section 501(c)(4) of the Internal Revenue Code that engages in lobbying activities is not eligible to receive Federal funds constituting an award, grant, or loan.

C. Availability of Funds

Approximately $150,000 is available in FY 2002 to fund this award. It is expected that the award will begin on or about April 1, 2002, and will be made for a 12-month budget period within a project period of up to three years. Funding estimates may change.

Continuation awards within an approved project period will be made on the basis of satisfactory progress as evidenced by required reports and the availability of funds.

Use of Funds

Funds may be utilized only for the purpose and for the activities described and approved in the final award.

1. All requests for funds contained in the budget shall be stated in U.S. dollars. Once an award is made, CDC will not compensate foreign grantees for currency exchange fluctuations through the issuance of supplemental awards.

a. Funds may be spent for reasonable program purposes, including personnel, travel, supplies, and services. Equipment may be purchased if deemed necessary to accomplish program objectives, however, prior approval by CDC officials must be requested in writing.

b. The costs that are generally allowable in grants to domestic organizations are allowable to foreign institutions and international organizations, with the following exception: Indirect costs will not be paid (either directly or through sub-award) to organizations located outside the territorial limits of the United States or to international organizations regardless of their location.

c. The applicant may contract with other organizations under this program. However, the applicant must perform a substantial portion of the activities including program management and operations, and delivery of prevention services for which funds are required.

D. Where To Obtain Additional Information

This and other CDC announcements can be found on the CDC home page Internet address http://www.cdc.gov. Click on “Funding” then “Grants and Cooperative Agreements.”

To obtain business management technical assistance, contact: Angelia D. Hill, Grants Management Specialist, International Grants and Contracts Branch, Procurement and Grants Office, Centers for Disease Control and Prevention (CDC), 2920 Brandywine Road, Room 3000, Atlanta, GA 30341-4146, Telephone: (770) 488-2785, E-mail address: aph8@cdc.gov.

Program technical assistance may be obtained from: J. David Erickson, National Center on Birth Defects and Developmental Disabilities, Centers for Disease Control and Prevention (CDC), 4770 Buford Highway NE., Atlanta, GA 30341-3724, Telephone: (770) 488-7161, E-mail address: jde1@cdc.gov.

Dated: December 12, 2001.
Rebecca B. O'Kelley,
Chief, International Grants and Contracts Branch, Procurement and Grants Office, Centers for Disease Control and Prevention (CDC).

[FR Doc. 01-31222 Filed 12-18-01; 8:45 am]

BILLING CODE 4163-18-P